DEPARTMENT OF THE INTERIOR

Fish and Wildlife Service

Notice of Availability. Final Restoration Plan and Environmental Assessment

AGENCY: U.S. Fish and Wildlife Service, U.S. Department of the Interior.

ACTION: Notice of availability.

SUMMARY: The U.S. Fish & Wildlife Service (Service), on behalf of the U.S. Department of the Interior (DOI), as a Natural Resource Trustee (Trustee), announces the release of the Final Restoration Plan and Environmental Assessment (RP/EA) for the Charles George Land Reclamation Trust Superfund Site in Tyngsborough, Massachusetts. The Final RP/EA describes the Trustees' selected action to restore natural resources injured as a result of chemical contamination at the Charles George Landfill.

ADDRESSES: Requests for copies of the Final RP/EA may be made to: Laura Eaton-Poole, U.S. Fish and Wildlife Service, New England Field Office c/o Great Meadows National Wildlife Refuge, Weir Hill Road, Sudbury, Massachusetts 01776. Copies are also available on the Internet at: http://greatmeadows.fws.gov/charlesgeorge.html.

FOR FURTHER INFORMATION CONTACT: Laura Eaton-Poole, U.S. Fish and Wildlife Service, New England Field Office c/o Great Meadows National Wildlife Refuge, Weir Hill Road, Sudbury, Massachusetts 01776. Interested parties may also call 978-443-4661, extension 17, or send e-mail to Laura_Eaton@fws.gov for further information.

SUPPLEMENTARY INFORMATION: Under the authority of the Comprehensive Environmental Response, Compensation, and Liability Act (CERCLA) of 1980 as amended, commonly known as Superfund, (42 U.S.C. 9601 et seq.). “* * * [Trustees] may assess damages to natural resources resulting from a discharge of oil or a release of a hazardous substance * * * and may seek to recover those damages.” Natural resource damage assessments are separate from the cleanup actions undertaken at a hazardous waste site, and provide a process whereby the Trustees can determine the proper compensation to the public for injury to natural resources.

Three natural resource trustees settled with the Potentially Responsible Parties for injuries to natural resources due to releases of hazardous substances from the Charles George Landfill Superfund Site: DOI recovered $299,916 for injuries to migratory birds that use wetlands; National Oceanic Atmospheric Administration recovered $134,624 for potential injuries to anadromous and catadromous fish in the Merrimack River; and the Commonwealth of Massachusetts recovered $918,900 for injuries to wetlands and groundwater. The total recovery of damages and future oversight expenses for all the Trustees was $1,353,440. The three Trustees signed a memorandum of Agreement (MOA) in recognition of the common interests to restore, replace and/or acquire the equivalent natural resources which were injured, destroyed, or lost by the releases of hazardous substances. The MOA provides a framework for the development of a Trustee Council that cooperatively develops and implements a Restoration Plan.

The Final RP/EA is being released in accordance with Section 111(i) of CERCLA, 42 U.S.C. 9611(i) and the National Environmental Policy Act (NEPA). The Final RP/EA describes a number of natural resource restoration, acquisition, and protection alternatives identified by the Charles George natural Resources Trustee Council (Trustee Council), and evaluates each of the possible alternatives based on all relevant consideration. The Trustee Council's Preferred Alternative has three parts: (1) The settlement funds will be used to protect properties adjacent to or near the areas of impact; (2) the settlement funds will be used to contribute to the anadromous fish restoration effort in the Merrimack River Watershed through the funding of stocking and monitoring of herring in the Concord River in Massachusetts, and contributing to the funding of the construction of a fish ladder at a dam on the Concord River which is an impediment to upstream migration of migratory fish; and (3) pending engineering estimates that determine that the work is cost-effective, the Upper Flint Pond Dam will be repaired to prevent migration of contaminated sediments into the Merrimack River. Details regarding the proposed projects are contained in the Final RP/EA.

The Final Revised Procedures for the DOI in implementing the NEPA were published in the Federal Register on January 16, 1997. Under those procedures, the DOI has determined that the Preferred Alternative will not have significant environmental effects as described in the Draft RP/EA an the attached Finding of No Significant Impact statement. Accordingly, the Preferred Alternative described in the draft RP/EA will not require preparation of an Environmental Impact Statement.

Author: The primary author of this notice is Laura Eaton-Poole, U.S. Fish and Wildlife Service, New England Field Office, c/o Great Meadows National Wildlife Refuge, Weir Hill Road, Sudbury, Massachusetts 01776.

Authority: The authority for this action is the Comprehensive Environmental response, Compensation, and Liability Act (CERCLA) of 1980 as amended, commonly known as Superfund, (42 U.S.C. 9601 et seq.).

Dated: October 18, 2002.
Mamie A. Parker,
Regional Director, Region 5, U.S. Fish and Wildlife Service.

[FR Doc. 02-32257 Filed 12-31-02; 8:45 am]

BILLING CODE 4310-55-M